DEPARTMENT OF HOMELAND SECURITY

Coast Guard

33 CFR Part 165

[COTP San Francisco Bay 07-015]

RIN 1625-AA00

Safety Zone; Fourth of July Fireworks, City of Monterey, Monterey Bay, CA

AGENCY: Coast Guard, DHS.

ACTION: Notice of enforcement of regulation.

SUMMARY: The Coast Guard will enforce the safety zone established in 33 CFR 165.1191, during the City of Monterey's Fourth of July Fireworks display, to be held on July 4, 2007, in the navigable waters of Monterey Bay. This safety zone is necessary to ensure the safety of participants and spectators during the loading, transport, and launching of fireworks. Unauthorized persons or vessels are prohibited from entering into, transiting through, or anchoring in the safety zone without permission of the Captain of the Port or his designated representative.

Enforcement Dates: 33 CFR 165.1191 will be enforced from 9 a.m. to 9:35 p.m. on July 4, 2007.

FOR FURTHER INFORMATION CONTACT: Ensign Sheral Richardson, Waterways Management Branch, U.S. Coast Guard Sector San Francisco, at (415) 556-2950 extension 136.

SUPPLEMENTARY INFORMATION: The City of Monterey, Recreation and Community Services Department is sponsoring the annual Fourth of July Fireworks display in the navigable waters of Monterey Bay near the beach east of Municipal Wharf #2. The safety zone established in 33 CFR 165.1191 will be enforced surrounding the barge used as a fireworks launch platform. During the loading of the barge, transit of the barge to the display location, and fifteen minutes prior to the start of the fireworks display, the safety zone will encompass the waters around and under the barge within a radius of 100 feet. Fifteen minutes preceding and during the twenty minute fireworks display itself, the safety zone increases in size to encompass the waters around and under the barge within a radius of 1,000 feet. Loading of the pyrotechnics onto the barge is scheduled to commence at 9 a.m. on July 4, 2007, and will take place at the U.S. Coast Guard Pier, 100 Lighthouse Avenue, Monterey, California. Towing of the barge to the display location is scheduled to take place between 2 p.m. and 9 p.m. on July 4, 2007. During the fireworks display, scheduled to start at approximately 9:15 p.m. on July 4, 2007, the barge will be located approximately 1,500 feet from Municipal Wharf #2 in position 36° 36.178′ N, 121° 53.172′ W.

In accordance with the general regulations in § 165.23 of this part, entry into, transit through, or anchoring within this safety zone by all vessels and persons is prohibited, unless specifically authorized by the Captain of the Port San Francisco, or his designated representative.

The Coast Guard has granted the event sponsor a marine event permit for the fireworks display. This notice is issued under authority of 33 CFR 165.1191 and 5 U.S.C. 552 (a). In addition to this notice, the maritime community will be provided advance notification of the enforcement via Broadcast Notice to Mariners. If the Captain of the Port determines that the safety zone need not be enforced for the full duration stated in this notice, he may use a Broadcast Notice to Mariners to grant general permission to enter the regulated area.

Dated: May 30, 2007.
W.J. Uberti,
Captain, U.S. Coast Guard, Captain of the Port, San Francisco.

[FR Doc. E7-11603 Filed 6-14-07; 8:45 am]

BILLING CODE 4910-15-P